DEPARTMENT OF THE INTERIOR

National Park Service

[NPS-WASO-NAGPRA-NPS0034563; PPWOCRADN0-PCU00RP14.R50000]

Notice of Inventory Completion: University of Tennessee, Department of Anthropology, Knoxville, TN

AGENCY: National Park Service, Interior.

ACTION: Notice.

SUMMARY: In accordance with the Native American Graves Protection and Repatriation Act (NAGPRA), the University of Tennessee, Department of Anthropology (UTK), has completed an inventory of human remains and has determined that there is a cultural affiliation between the human remains and Indian Tribes or Native Hawaiian organizations in this notice. The human remains were removed from Doniphan County, KS.

DATES: Repatriation of the human remains in this notice may occur on or after October 20, 2022.

ADDRESSES: Dr. Robert Hinde, University of Tennessee, Office of the Provost, 527 Andy Holt Tower, Knoxville, TN 37996-0152, telephone (865) 974-2445, email rhinde@utk.edu and vpaa@utk.edu.

SUPPLEMENTARY INFORMATION: This notice is published as part of the National Park Service's administrative responsibilities under NAGPRA. The determinations in this notice are the sole responsibility of UTK. The National Park Service is not responsible for the determinations in this notice. Additional information on the determinations in this notice, including the results of consultation, can be found in the inventory or related records held by UTK.

Description

Around 1962, human remains representing, at minimum, one individual were removed from 14DP2, the Doniphan site, in Doniphan County, KS, by an unnamed person. Around 1968, the unnamed person transferred the human remains—a skull fragment—to Les Hixon (Central Procurement Division, Fort Leavenworth). In 1970, Hixon transferred the human remains to William Bass (who, at the time, was at the University of Kansas. On October 18, 2019, Bass transferred them to the UTK Anthropology Department (where he had been since 1971). No known individual was identified. No associated funerary objects are present.

On May 20, 1970, human remains representing, at minimum, one individual were removed from 14DP2, the Doniphan site, in Doniphan County, KS, by an unidentified person. At an unknown date, these human remains were transferred to William Bass, and on October 18, 2019, Bass transferred them to the UTK Anthropology Department. No known individual was identified. No associated funerary objects are present.

The Doniphan site, 14DP2, is a well-documented historic Kaw village and burial site located at the confluence of Independence Creek and the Missouri River. The two individuals likely were interred at the Doniphan site sometime during the post-contact period. In 1724, the Kansa, who are represented by the present-day Kaw Nation, were recorded as inhabiting the site.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: archeological, historical, and geographical.

Determinations

Pursuant to NAGPRA and its implementing regulations, and after consultation with the appropriate Indian Tribes and Native Hawaiian organizations, UTK has determined that:

• The human remains described in this notice represent the physical remains of two individuals of Native American ancestry.

• There is a relationship of shared group identity that can be reasonably traced between the human remains and associated funerary objects described in this notice and Kaw Nation, Oklahoma.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after October 20, 2022. If competing requests for repatriation are received, UTK must determine the most appropriate requestor prior to repatriation. Requests for joint repatriation of the human remains are considered a single request and not competing requests. UTK is responsible for sending a copy of this notice to the Indian Tribes and Native Hawaiian organizations identified in this notice.

Authority: Native American Graves Protection and Repatriation Act, 25 U.S.C. 3003, and the implementing regulations, 43 CFR 10.9, 10.10, and 10.14.

Dated: September 14, 2022.
Melanie O'Brien,
Manager, National NAGPRA Program.

[FR Doc. 2022-20298 Filed 9-19-22; 8:45 am]

BILLING CODE 4312-52-P